FEDERAL COMMUNICATIONS COMMISSION

Notice of Public Information Collection(s) Being Reviewed by the Federal Communications Commission, Comments Requested

April 8, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before June 14, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, 202-418-0214, Judith-B.Herman@fcc.gov.

SUPPLEMENTARY INFORMATION: OMB Control Number: 3060-1136.

Title: Spectrum Dashboard Customer Feedback.

Form No.: N/A.

Type of Review: Extension of a currently approved collection.

Respondents: Individuals or households, business or other for-profit, not-for-profit institutions, Federal Government, and state, local or tribal government.

Number of Respondents and Responses: 22,000 respondents; 22,000 responses.

Estimated Time Per Response: .05 hours.

Frequency of Response: On occasion reporting requirement.

Obligation to Respond: Voluntary. Statutory authority for this information collection is contained in the American Reinvestment and Recovery Act of 2009 (ARRA), Pub. L. No. 111-5, 123 Stat 115 (2009).

Total Annual Burden: 1,100 hours.

Total Annual Cost: N/A.

Privacy Act Impact Assessment: Yes. The FCC has a Privacy Policy that covers individuals who access the FCC's webpages, at: <http://www.fcc.gov/fccprivacypolicy.html>. There is also a system of records, FCC/OMD-20, “Inter-office and Remote Access Internet E-Mail Systems,” which was published in the Federal Register on April 5, 2006 (65 FR 17234, 17265) and a Privacy Impact Assessment at: <http://www.fcc.gov/omd/privacyact/System_of_records/pia-email.pdf> to cover the collection of IP addresses of those who access FCC webpages.

Nature and Extent of Confidentiality: No personally identifiable information will be obtained as part of this information collection, except the collection of IP addresses when an individual or other entity access the FCC's webpages.

Needs and Uses: The Commission sought and obtained emergency processing of this information collection in March 2010. Emergency OMB approval requests are only granted for six months. This collection is due to expire in September 2010. Therefore, the Commission is publishing this 60 day notice in anticipation of submitting this for the full OMB review and clearance. The Commission is requesting an extension of the current OMB approval and there is no change in the Commission's estimates.

As part of the Commission Broadband Plan, the FCC has created the Spectrum Dashboard, a database of the frequency bands from 225 MHz - 3.7 GHz available for non-federal uses, including for broadband deployment across the nation. The Spectrum Dashboard also makes information transparent and readily available to interested stakeholders (e.g., service providers, manufacturers, innovators, investors, etc.) to better enable them to gain access to spectrum and to help them assist the Commission in our spectrum policy decisions. The increased accessibility to spectrum and licensing information made possible by the Spectrum Dashboard is particularly valuable at this time as multiple stakeholders search for ways to participate in the deployment of wireless broadband throughout the nation.

The purpose of this collection is to enable individuals and others to voluntarily provide feedback on their experience with the Spectrum Dashboard. This collection will provide the Commission with unique data on how stakeholders are using the Spectrum Database and what improvements or enhancements they would like to see in future versions of the Spectrum Dashboard.

Federal Communications Commission.
Marlene H. Dortch,
Secretary,
Office of the Secretary,
Office of Managing Director.

[FR Doc. 2010-8491 Filed 4-13-10; 8:45 am]

BILLING CODE 6712-01-S